FEDERAL COMMUNICATIONS COMMISSION

47 CFR Part 54

[WC Docket Nos. 03-109 and 11-42; DA 11-1593]

Inquiry Into Disbursement Process for the Universal Service Fund Low Income Program

AGENCY: Federal Communications Commission.

ACTION: Proposed rule; solicitation of comments.

SUMMARY: In this document, the Wireline Competition Bureau (WCB) seeks comment on a proposal for disbursing Universal Service Fund low income support to eligible telecommunications carriers (ETCs) based upon claims for reimbursement of actual support payments made, instead of projected claims for support. Payment based on actual support payments would replace the current administrative process, under which the Universal Service Administrative Company (USAC) reimburses ETCs for low income support each month based on USAC's projection of payments and on a “true-up” calculated using an ETC's actual support payments. Among other things, we are seeking comment on a proposal that, if adopted, would require that the FCC Form 497 be filed monthly.

DATES: Comments are due on or before November 18, 2011. Reply comments are due on or before December 5, 2011. Written comments on the Paperwork Reduction Act proposed information collection requirements must be submitted by the public, Office of Management and Budget (OMB), and other interested parties on or before December 19, 2011. If you anticipate that you will be submitting comments, but find it difficult to do so within the period of time allowed by this notice, you should advise the contact listed below as soon as possible.

ADDRESSES: You may submit comments, identified by WC Docket Nos. 03-109 and 11-42, by any of the following methods:

• Federal eRulemaking Portal: http://www.regulations.gov. Follow the instructions for submitting comments.

• Federal Communications Commission's Web Site: http://fjallfoss.fcc.gov/ecfs2/. Follow the instructions for submitting comments.

• People with Disabilities: Contact the FCC to request reasonable accommodations (accessible format documents, sign language interpreters, CART, etc.) by e-mail: FCC504@fcc.gov or phone: (202) 418-0530 or TTY: (202) 418-0432.

• In addition to filing comments with the Secretary, a copy of any comments on the Paperwork Reduction Act information collection requirements contained herein should be submitted to the Federal Communications Commission via e-mail to PRA@fcc.gov and to Nicholas A. Fraser, Office of Management and Budget, via e-mail to Nicholas_A._Fraser@omb.eop.gov or via fax at 202-395-5167.

For detailed instructions for submitting comments and additional information on the rulemaking process, see the SUPPLEMENTARY INFORMATION section of this document.

FOR FURTHER INFORMATION CONTACT: Kimberly Scardino, Wireline Competition Bureau, Telecommunications Access Policy Division, (202) 418-7400 or TTY (202) 418-0484. For additional information concerning the Paperwork Reduction Act information collection requirements contained in this document, send an e-mail to PRA@fcc.gov or contact Judith B. Herman, Office of Managing Director, 202-418-0214.

SUPPLEMENTARY INFORMATION: This is a synopsis of the Commission's Public Notice, WC Docket Nos. 11-42 and 03-109; DA 11-1593, issued September 23, 2011. The complete text of the Public Notice is available for inspection and copying during normal business hours in the FCC Reference Information Center, Portals II, 445 12th Street, SW., Room CY-A257, Washington, DC 20554. The document may also be purchased from the Commission's duplicating contractor, Best Copy and Printing, Inc., 445 12th Street, SW., Room CY-B402, Washington, DC 20554, telephone (800) 378-3160 or (202) 863-2893, facsimile (202) 863-2898, or via the Internet at http://www.bcpiweb.com. It is also available via ECFS (http://www.fcc.gov/cgb/ecfs/).

Pursuant to §§ 1.415 and 1.419 of the Commission's rules, interested parties may file comments and reply comments on or before the dates indicated on the first page of this document. All comments are to reference WC Docket Nos. 11-42 and 03-109. Comments may be filed using: (1) the Commission's Electronic Comment Filing System (ECFS) or (2) by filing paper copies. See Electronic Filing of Documents in Rulemaking Proceedings, 63 FR 24121, May 1, 1998.

• Electronic Filers: Comments may be filed electronically using the Internet by accessing the ECFS: http://fjallfoss.fcc.gov/ecfs2/.

• Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

—All hand-delivered or messenger-delivered paper filings for the Commission's Secretary must be delivered to FCC Headquarters at 445 12th St., SW., Room TW-A325, Washington, DC 20554. The filing hours are 8 a.m. to 7 p.m. All hand deliveries must be held together with rubber bands or fasteners. Any envelopes must be disposed of before entering the building.

—Commercial overnight mail (other than U.S. Postal Service Express Mail and Priority Mail) must be sent to 9300 East Hampton Drive, Capitol Heights, MD 20743.

—U.S. Postal Service first-class, Express, and Priority mail must be addressed to 445 12th Street, SW, Washington DC 20554.

• Additional copies: One copy of each filing must be sent to each of the following:

—The Commission's duplicating contractor, Best Copy and Printing, Inc., 445 12th Street, SW., Room CY-B402, Washington, DC 20554, (202) 488-5300, or via e-mail to fff@bcpiweb.com.

—Charles Tyler, Telecommunications Access Policy Division, Wireline Competition Bureau, 445 12th Street, SW., Room 5-A452, Washington, DC 20554; e-mail: Charles.Tyler@fcc.gov.

• People with Disabilities: To request materials in accessible formats for people with disabilities (Braille, large print, electronic files, audio format), send an e-mail to fcc504@fcc.gov or call the Consumer & Governmental Affairs Bureau at 202-418-0530 (voice), 202-418-0432 (tty).

• Filings and comments are available for public inspection and copying during regular business hours at the FCC Reference Information Center, Portals II, 445 12th Street, SW., Room CY-A257, Washington, DC 20554. They may also be purchased from the Commission's duplicating contractor, Best Copy and Printing, Inc., Portals II, 445 12th Street, SW., Room CY-B402, Washington, DC 20554, telephone: (202) 488-5300, fax: (202) 488-5563, or via e-mail http://www.bcpiweb.com.

In addition to filing comments with the Secretary, a copy of any comments on the Paperwork Reduction Act information collection requirements contained herein should be submitted to the Federal Communications Commission via e-mail to PRA@fcc.gov and to Nicholas A. Fraser, Office of Management and Budget, via e-mail to Nicholas_A._Fraser@omb.eop.gov or via fax at 202-395-5167.

Initial Paperwork Reduction Act of 1995 Analysis

This document contains proposed information collection requirements. The Commission, as part of its continuing effort to reduce paperwork burdens, invites the general public and the Office of Management and Budget (OMB) to comment on the information collection requirements contained in this document, as required by the Paperwork Reduction Act of 1995, Public Law 104-13. Public and agency comments are due December 19, 2011.

Comments should address: (a) Whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) ways to further reduce the information collection burden on small business concerns with fewer than 25 employees. In addition, pursuant to the Small Business Paperwork Relief Act of 2002, Public Law 107-198, see 44 U.S.C. 3506(c)(4), we seek specific comment on how we might further reduce the information collection burden for small business concerns with fewer than 25 employees.

OMB Control Number: 3060-0819.

Title: Lifeline Assistance (Lifeline) Connection Assistance (Link-Up) Reporting Worksheet and Instructions (47 CFR 54.400-54.417).

Form Number: FCC Form 497

Type of Review: Revision of currently approved collection.

Respondents: Business or other for-profit (Eligible Telecommunications Carriers (ETCs)).

Number of Respondents and Responses: Approximately 251,400 respondents; 280,450 responses.

Estimated Time per Response: 5 hrs per month.

Frequency of Response: Monthly, quarterly, annually and on occasion reporting requirements.

Obligation to Respond: Required to obtain or retain benefits. Statutory authority for this information collection is contained in 47 U.S.C. sections 4(i), 201-205, 214, 254, and 403.

Total Annual Burden: 61,386 hours.

Total Annual Costs: N/A.

Privacy Act Impact Assessment: The changes proposed in the 2011 Disbursement Process PN (requiring monthly rather than optional monthly/quarterly filing of Form 497), do not affect individuals or households, and thus have no impact under the Privacy Act. However, other portions of information collection 3060-0819 affects individuals or households, and thus, there are impacts under the Privacy Act. As required by the Privacy Act of 1974, as amended, 5 U.S.C. 552a, the Commission is creating a system of records notice (SORN) to cover those aspects of this information collection that impact individuals or households. In addition, the Commission is preparing a Privacy Impact Assessment (PIA) as required by OMB Memorandum M-03-22.

Nature and Extent of Confidentiality: This proposed revision does not address information of a confidential nature.

Needs and Uses: The information collected via FCC Form 497 (Lifeline and Link Up Worksheet) provides the Commission with the necessary information to administer the Lifeline/Link-Up programs, and determine the amount of support entities seeking funding are eligible to receive. Currently, the FCC Form 497 may be filed either monthly or quarterly. The Commission is proposing to revise the currently approved collection 3060-0819 reporting requirement, requiring ETCs to file the FCC Form 497 monthly.

Synopsis of Proposed Administrative Rule

I. Introduction

1. The Wireline Competition Bureau (WCB) seeks comment on a proposal for disbursing Universal Service Fund (USF) low income support to eligible telecommunications carriers (ETCs) based upon claims for reimbursement of actual support payments made, instead of projected claims for support. Payment based on actual support payments could replace the current administrative process, under which USAC reimburses ETCs for low income support each month based on USAC's projection of payments and on a “true-up” calculated using an ETC's actual support payments.

On May 13, 2011 the Commission's Office of the Managing Director (OMD) directed USAC to propose an administrative process for disbursing USF low income support to ETCs based on verified claims for reimbursement. USAC submitted its proposal on August 9, 2011, the text of which is located at http://transition.fcc.gov/Daily_Releases/Daily_Business/2011/db1003/DA-11-1593A1.pdf.

II. Comment Sought on Proposal

2. To facilitate a smooth transition to a revised payment process, we seek public comment on USAC's proposed plan to pay low income support reimbursement based solely on actual support payments, including the following issues:

3. Filing Deadline. USAC proposes to establish a monthly due date by which ETCs must submit their FCC Form 497 in order to receive a payment at the end of the following month. Carriers that do not file FCC Form 497 by the monthly deadline in a given month would not receive a payment in the following month. USAC would process an FCC Form 497 received after the monthly deadline during the following month, and would make a disbursement based on that support claim in the subsequent month. We seek comment on monthly filing deadline and on the process for disbursing payment to ETCs that miss a monthly deadline.

4. Quarterly Filing. Under USAC's proposal, carriers would be allowed to continue to file quarterly, but those that do so would no longer be paid monthly. Instead, for the month following the month the forms are filed, ETCs filing on a quarterly basis would receive one payment for all three months filed. We seek comment on the adequacy of quarterly reimbursements.

5. Deadline for New Support and Filing Revisions. Currently, USAC maintains an administrative window of fifteen months for filing original or revised support claims. Specifically, after the end of each calendar year (closed calendar year), carriers have fifteen months to file original claims or to revise support claims for the closed calendar year. After the fifteen-month window, ETCs may not file revised or original support claims for any portion of the closed calendar year. Under USAC's proposed plan, new support claims and upward revisions would only be permitted to be filed within an administrative window of six months. We seek comment on whether this new filing window provides ETCs sufficient time to file revisions. Commenters proposing a longer filing window should provide a detailed explanation of why the proposed six-month period would be insufficient.

6. True-Up before Transition to New Disbursement Process. Most ETCs currently receive payments based on projections. Under USAC's proposed plan, in order to transition to paying on actual support claims, USAC would true-up all payments against projections for each ETC. ETCs currently paid based on projections will likely receive little or no support for the month in which the program transitions to payments against actual claims. The example at Table 2 of Appendix A illustrates how the transition month would affect a typical carrier's support payment. We seek comment on the proposed true-up process for the transition month, and whether USAC's proposed early transition option provides ETCs with sufficient time to transition from projected to actual claims. Commenters with alternative proposals should provide examples of how such proposals would work.

7. Payment of Negative Balance as a Result of Transition True-Up. A carrier may incur a negative disbursement as a result of the true-up process during the transition month. Under USAC's proposed plan, in the event the negative amount exceeds the carrier's next monthly payment, USAC would invoice the carrier for the full amount of the negative balance. We seek comment on this approach to the settlement of negative balances.

8. Transition Date and Early Transition Option. If adopted, the new disbursement process would contain a transition date by which all carriers would receive support based on claims for actual, rather than projected, support. We seek comment on what date would be appropriate for the transition, including details to support any dates proposed. Additionally, under USAC's proposed plan, ETCs could elect to transition to the new disbursement process prior to the transition deadline. For example, a carrier that claims low income program support in multiple study areas may wish to transition its study areas at different times in order to phase-in payment on actual support claims, rather than have all of its study areas transition at the same time. We seek comment on this early transition option. Commenters with alternative proposals should provide examples of how such proposals would work.

9. Implementation and Outreach. OMD requested that USAC's proposal include an implementation and outreach component, which USAC includes in its proposal. We seek comment on whether the key components of USAC's outreach plan are sufficient to notify and educate ETCs on USAC's new process for paying on actual claims.

10. Codifying USAC's Procedures. We invite comments on all aspects of the proposal located at http://transition.fcc.gov/Daily_Releases/Daily_Business/2011/db1003/DA-11-1593A1.pdf. Without limitation, we seek comment on whether USAC's requirements for ETCs' seeking and recovering reimbursement for Lifeline and Link Up should be codified in Commission rules, or should be adopted as an administrative procedure, posted on USAC's Web site. Section 553(b)(3)(A) of the Administrative Procedure Act (APA) states that notice and comment requirements do not apply to “interpretive rules, general statements of policy, or rules of agency organization, procedure, or practice.” 5 U.S.C. 553(b)(3)(A). The proposed revised disbursement schedule is a non-substantive change to the administrative aspects of the low income program, and is therefore exempt from the notice-and-comment procedures of section 553 of the APA. After reviewing comments, OMD and WCB will determine what further steps are needed to adopt a new process.

11. This matter shall be treated as a “permit-but-disclose” proceeding in accordance with the Commission's ex parte rules. Persons making oral ex parte presentations are reminded that memoranda summarizing the presentations must contain summaries of the substance of the presentation and not merely a listing of the subjects discussed. More than a one or two sentence description of the views and arguments presented generally is required. Other rules pertaining to oral and written ex parte presentations in permit-but-disclose proceedings are set forth in § 1.1206(b) of the Commission's rules.

Federal Communications Commission.
Trent Harkrader,
Division Chief, Wireline Competition Bureau.

[FR Doc. 2011-26940 Filed 10-18-11; 8:45 am]

BILLING CODE 6712-01-P